DEPARTMENT OF HEALTH AND HUMAN SERVICES

Centers for Medicare & Medicaid Services

[Document Identifier: CMS-10816]

Agency Information Collection Activities: Proposed Collection; Comment Request; Correction

AGENCY: Centers for Medicare & Medicaid Services (CMS), HHS.

ACTION: Notice; correction.

SUMMARY: On August 23, 2022, CMS published a notice in the Federal Register that sought comment on a collection of information concerning CMS-10816 (OMB control number 0938-New) entitled “Medicare Part C and Medicare Part D Enrollment Form Interviews” The website address for obtaining copies of the collection of information is correct; however, the instructions for accessing the website address were incomplete and incorrect. This document corrects the errors.

FOR FURTHER INFORMATION CONTACT: William N. Parham, III, (410) 786-4669.

SUPPLEMENTARY INFORMATION:

I. Background

In the August 23, 2022, issue of the Federal Register (87 FR 51675), we published a Paperwork Reduction Act notice requesting a 60-day public comment period for the information collection request identified under CMS-10816, OMB control number 0938-New, and titled “Medicare Part C and Medicare Part D Enrollment Form Interviews.”

II. Explanation of Error

In the August 23, 2022 notice, the website address for obtaining copies of the collection is correctly listed on page 51676, in the first column column, in the fourth paragraph beginning on line 2. However, the instructions for accessing the website address were incomplete and incorrect on page 51676 in the first column, beginning in the third paragraph, first line with “To obtain” and ending in the fourth paragraph, second line, third word “at.” This notice corrects the aforementioned incomplete and incorrect instructions.

III. Correction of Error

In the Federal Register of August 23, 2022, in FR Doc. 2022-18092 on page 51676, in the first column, in the third paragraph, lines 1-5 through the fourth paragraph line 1 and line 2 through the third word “at” is corrected to “To obtain copies of a supporting statement and any related forms for the proposed collection(s) summarized in this notice, please access the CMS PRA website by copying and pasting the following web address into your web browser: https://www.cms.gov/Regulations-and-Guidance/Legislation/PaperworkReductionActof1995/PRA-Listing.”

Dated: September 29, 2022.
Lynette Wilson,
Federal Register Liaison, Centers for Medicare & Medicaid Services.

[FR Doc. 2022-21505 Filed 10-3-22; 8:45 am]

BILLING CODE 4120-01-P